NUCLEAR REGULATORY COMMISSION

Sunshine Act Meeting; Notice

AGENCY HOLDING THE MEETINGS: Nuclear Regulatory Commission.

DATES: Weeks of April 11, 18, 25, May 2, 9, 16, 2005.

Place: Commissioner's Conference Room, 11555 Rockville Pike, Rockville, Maryland.

Status: Public and Closed.

Matters to be Considered:

Week of April 11, 2005

There are no meetings scheduled for the Week of April 11, 2005.

Week of April 18, 2005—Tentative

Tuesday, April 19, 2005

9 a.m.

Discussion of Enforcement Issue (Closed—Ex. 5)

9:30 a.m.

Discussion of Security Issues (Closed—Ex. 1)

Wednesday, April 20, 2005

9:25 a.m.

Affirmation Session (Public Meeting) (Tentative)

a. (1) Exelon Generation Company, LLC (Early Site Permit for Clinton ESP Site), Docket No. 52-007-ESP; (2) Dominion Nuclear North Anna, LLC (Early Site Permit for North Anna ESP Site), Docket No. 52-008-ESP; (3) System Energy Resources, Inc. (Early Site Permit for Grand Gulf ESP Site), Docket No. 52-009-ESP; (4) Louisiana Energy Services, L.P. (National Enrichment Facility), Docket No. 70-3103-ML; (5) USEC Inc. (American Centrifuge Plant), Docket No. 70-7004 (Tentative)

9:30 a.m.

Meeting with Advisory Committee on the Medical Uses of Isotopes (ACMUI) (Public Meeting) (Contact: Angela McIntosh, 301-415-5030)

This meeting will be webcast live at the Web address— http://www.nrc.gov.

1:30 p.m.

Briefing on Office of Nuclear Reactor Regulation (NRR) Programs, Performance, and Plans (Public Meeting) (Contact: Laura Gerke, 301-415-4099)

This meeting will be webcast live at the Web address— http://www.nrc.gov.

Thursday, April 21, 2005

1:30 p.m.

Discussion of Security Issues (Closed—Ex. 1)

Week of April 25, 2005—Tentative

Tuesday, April 26, 2005

9:30 a.m.

Briefing on Grid Stability and Offsite Power Issues (Public Meeting) (Contact: John Lamb, 301-415-1446)

This meeting will be webcast live at the Web address— http://www.nrc.gov.

Week of May 2, 2005—Tentative

There are no meetings scheduled for the Week of May 2, 2005.

Week of May 9, 2005—Tentative

Wednesday, May 11, 2005

10:30 a.m.

All Employees Meeting (Public Meeting)

1:30 p.m.

All Employees Meeting (Public Meeting)

Week of May 16, 2005—Tentative

There are no meetings scheduled for the Week of May 16, 2005.

* The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 7, 2005.
Dave Gamberoni,
Office of the Secretary.

[FR Doc. 05-7368 Filed 4-8-05; 9:21 am]

BILLING CODE 7590-01-M